DEPARTMENT OF AGRICULTURE

Food and Nutrition Service

7 CFR Part 225

RIN 0584-AE72

Streamlining Program Requirements and Improving Integrity in the Summer Food Service Program; Correction

AGENCY: Food and Nutrition Service (FNS), Department of Agriculture (USDA).

ACTION: Correcting amendments.

SUMMARY: The Food and Nutrition Service (FNS) is correcting regulations that published in a final rule in the Federal Register of September 19, 2022, and went into effect in the Code of Federal Regulations (CFR) on October 1, 2022. The rule amended the Summer Food Service Program (SFSP) regulations to strengthen program integrity by clarifying, simplifying, and streamlining program administration to facilitate compliance with program requirements.

DATES: Effective December 27, 2022.

FOR FURTHER INFORMATION CONTACT: Anne Fiala, 703-305-2590, anne.fiala@usda.gov.

SUPPLEMENTARY INFORMATION: The final rule that appeared in the Federal Register on September 19, 2022 (87 FR 57304), included non-substantive revisions to the introductory text of 7 CFR 225.16(d) that made the text consistent with other reverences in part 225 and used plain language. In making this change, paragraphs (d)(1) through (3) of § 225.16 were inadvertently removed leaving only the introductory text of § 225.16(d). This document corrects that error and restores the entirety of § 225.16(d). To conform with current Federal Register requirements, tables found in these restored paragraphs are revised to include headings that note their citation in 7 CFR part 225.

In addition, the definition of “documentation” in § 225.2 is renumbered to reflect the correct paragraph structure requirements for the Code of Federal Regulations. Finally, a separate, special memorandum will be issued in the future to correct a formatting error in table 1 to paragraph (e)(6)(iv) of § 225.7.

List of Subjects in 7 CFR Part 225

Food assistance programs, Grant programs—health, Infants and children, Labeling, Reporting and recordkeeping requirements.

Accordingly, for reasons stated in the preamble, FNS amends 7 CFR part 225 by making the following technical corrections:

PART 225—SUMMER FOOD SERVICE PROGRAM

1. The authority citation for part 225 continues to read as follows:

Authority: Secs. 9, 13 and 14, Richard B. Russell National School Lunch Act, as amended (42 U.S.C. 1758, 1761 and 1762a).

2. In § 225.2, revise the definition of “Documentation” to read as follows:

§ 225.2 Definitions.

* * * * *

Documentation means:

(1) The completion of the following information on a free meal application:

(i) Names of all household members;

(ii) Income received by each household member, identified by source of income (such as earnings, wages, welfare, pensions, support payments, unemployment compensation, social security and other cash income);

(iii) The signature of an adult household member; and

(iv) The last four digits of the Social Security number of the adult household member who signs the application, or an indication that the adult does not possess a Social Security number; or

(2) For a child who is a member of a household receiving SNAP, FDPIR, or TANF benefits, “documentation” means completion of only the following information on a free meal application:

(i) The name(s) and appropriate SNAP, FDPIR, or TANF case number(s) for the child(ren); and

(ii) The signature of an adult member of the household.

* * * * *

3. In § 225.16, revise paragraph (d) to read as follows:

§ 225.16 Meal service requirements.

* * * * *

(d) Meal patterns. The meal requirements for the Program are designed to provide nutritious and well-balanced meals to each child. Sponsors must ensure that meals served meet all of the requirements. Except as otherwise provided in this section, the following tables present the minimum requirements for meals served to children in the Program. Children age 12 and up may be served larger portions based on the greater food needs of older children.

(1) Breakfast. The minimum amount of food components to be served as breakfast are as follows:

BILLING CODE 3410-30-P

(2) Lunch or supper. The minimum amounts of food components to be served as lunch or supper are as follows:

(3) Snacks. The minimum amounts of food components to be served as snacks are as follows. Select two of the following four components. (Juice may not be served when milk is served as the only other component.)

* * * * *

Cynthia Long,
Administrator, Food and Nutrition Service.

[FR Doc. 2022-28103 Filed 12-23-22; 8:45 am]

BILLING CODE 3410-30-C